DEPARTMENT OF HOUSING AND URBAN DEVELOPMENT

[Docket No. FR-4980-N-46]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Heather Ranson, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Kathryn M. Halvorson, Director, Air Force Real Property Agency, 1700 North Moore St., Suite 2300, Arlington, VA 2209-2802; (703) 696-5502; Army: Ms. Audrey C. Ormerod, Office of the Assistant Chief of Staff for Installation Management, Attn: DAIM-MD, Room 1E677, 600 Army Pentagon, Washington, DC 20310; (703) 601-2520; COE: Ms. Shirley Middleswarth, Army Corps of Engineers, Civil Division, Directorate of Real Estate, 441 G Street, NW., Washington, DC 20314-1000; (202) 761-7425; GSA: Mr. Brian K. Polly, Assistant Commissioner, General Services Administration, Office of Property Disposal, 18th and F Streets, NW., Washington, DC 20405; (202) 501-0084; Navy: Mr. Warren Meekins, Department of the Navy, Real Estate Services, Naval Facilities Engineering Command, Washington Navy Yard, 1322 Patterson Ave., SE., Suite 1000, Washington, DC 20374-5065; (202) 685-9305; (These are not toll-free numbers).

Dated: November 10, 2005.
Mark R. Johnston,
Director, Office of Special Needs Assistance Programs.

Title V, Federal Surplus Property Program Federal Register Report for 11/18/05

Suitable/Available Properties

Buildings (by State)

Arizona

Bldg. 66150

Fort Huachuca

Cochise Co: AZ 85613-

Landholding Agency: Army

Property Number: 21200540079

Status: Excess

Comment: 4027 sq. ft., most recent use—storage, off-site use only

Bldg. 90335

Fort Huachuca

Cochise Co: AZ 85613-

Landholding Agency: Army

Property Number: 21200540080

Status: Excess

Comment: 456 sq. ft., most recent use—storage, off-site use only

Bldg. 90336

Fort Huachuca

Cochise Co: AZ 85613-

Landholding Agency: Army

Property Number: 21200540081

Status: Excess

Comment: 8339 sq. ft., most recent use—storage, off-site use only

Illinois

SSA Federal Building

1530 4th Street

Peru Co: IL 61354-

Landholding Agency: GSA

Property Number: 54200540012

Status: Excess

Comment: 6007 sq. ft., most recent use—office/storage

GSA Number: 1-G-IL-732

Iowa

Social Security Building

904 W 4th Street

Waterloo Co: Black Hawk IA 50702-

Landholding Agency: GSA

Property Number: 54200540011

Status: Excess

Comment: 8880 sq. ft., needs repair, possible asbestos/lead paint, most recent use—office, tenants to relocate within 2 years

GSA Number: 7-G-IA-0501

Kentucky

Bldgs. 00023, 00024, 00025

Blue Grass Army Depot

Richmond Co: Madison KY 40475-

Landholding Agency: Army

Property Number: 21200540082

Status: Excess

Comment: 5530/2036/1062 sq. ft., most recent use—admin offices, off-site use only

Bldg. 00032

Blue Grass Army Depot

Richmond Co: Madison KY 40475-

Landholding Agency: Army

Property Number: 21200540083

Status: Excess

Comment: 153 sq. ft., most recent use—depot access control, off-site use only

Louisiana

Bldg. T7125

Fort Polk

Ft. Polk Co: LA 71459-

Landholding Agency: Army

Property Number: 21200540088

Status: Unutilized

Comment: 1875 sq. ft., off-site use only

Bldgs. T7163, T8043

Fort Polk

Ft. Polk Co: LA 71459-

Landholding Agency: Army

Property Number: 21200540089

Status: Unutilized

Comment: 4073/1923 sq. ft., off-site use only

Maryland

Bldg. 0706A

Aberdeen Proving Ground

Aberdeen Co: Harford MD 21005-

Landholding Agency: Army

Property Number: 21200540090

Status: Unutilized

Comment: 576 sq. ft., most recent use—firing barracks, off-site use only

Bldg. 04925

Aberdeen Proving Ground

Aberdeen Co: Harford MD 21005-

Landholding Agency: Army

Property Number: 21200540091

Status: Unutilized

Comment: 1326 sq. ft., off-site use only

Bldg. E5001

Aberdeen Proving Ground

Aberdeen Co: Harford MD 21005-

Landholding Agency: Army

Property Number: 21200540092

Status: Unutilized

Comment: 400 sq. ft., most recent use—access control, off-site use only

Missouri

Courthouse/Post Office

811 Grand Blvd.

Kansas City Co: Jackson MO 64106-

Landholding Agency: GSA

Property Number: 54200540013

Status: Excess

Comment: 364,007 sq. ft., estimated renovation = $41 million, possible asbestos/lead paint, historic covenants will be required

GSA Number: 7-G-MO-06381

Montana

Bldg. 00001

Sheridan Hall USARC

Helena Co: MT 59601-

Landholding Agency: Army

Property Number: 21200540093

Status: Unutilized

Comment: 19,321 sq. ft., most recent use—Reserve Center

Bldg. 00003

Sheridan Hall USARC

Helena Co: MT 59601-

Landholding Agency: Army

Property Number: 21200540094

Status: Unutilized

Comment: 1950 sq. ft., most recent use—maintenance/storage

10.08 acres

Power Co: Teton MT 59468-

Landholding Agency: GSA

Property Number: 54200540015

Status: Surplus

Comment: unimproved land, subject to existing easements

GSA Number: 7-I-MI-0619

Ohio

Residence

5037 Deer Road

Bowerston Co: Carroll OH 44695-

Landholding Agency: COE

Property Number: 31200540007

Status: Unutilized

Comment: 2412 sq. ft., brick, needs repair, presence of asbestos, off-site use only

Residence

28700 Milarcik Road

Tippecanoe Co: Harrison OH 44699-

Landholding Agency: COE

Property Number: 31200540008

Status: Unutilized

Comment: 2412 sq. ft., brick/masonry, off-site use only

Structure

21897 Deer Creek Road

Mt. Sterling Co: Pickaway OH 43143-

Landholding Agency: COE

Property Number: 31200540009

Status: Unutilized

Comment: 1321 sq. ft., brick, off-site use only

Texas

Bldg. 04485

Fort Hood

Bell Co: TX 76544-

Landholding Agency: Army

Property Number: 21200540095

Status: Excess

Comment: 640 sq. ft., presence of asbestos, most recent use—housing maint., off-site use only

Bldg. 56171

Fort Hood

Bell Co: TX 76544-

Landholding Agency: Army

Property Number: 21200540097

Status: Excess

Comment: 3200 sq. ft., presence of asbestos, most recent use—housing maint, off-site use only

Bldg. 57030

Fort Hood

Bell Co: TX 76544-

Landholding Agency: Army

Property Number: 21200540098

Status: Excess

Comment: 3108 sq. ft., presence of asbestos, most recent use—storage, off-site use only

Bldgs. 90082, 90083

Fort Hood

Bell Co: TX 76544-

Landholding Agency: Army

Property Number: 21200540099

Status: Excess

Comment: 200 sq. ft., presence of asbestos, most recent use—fuel/POL, off-site use only

Suitable/Unavailable Properties

Buildings (by State)

Arizona

Bldg. 22040

Fort Huachuca

Cochise Co: AZ 85613-

Landholding Agency: Army

Property Number: 21200540076

Status: Excess

Comment: 1131 sq. ft., presence of asbestos/lead paint, most recent use—storage, off-site use only

Bldg. 22404

Fort Huachuca

Cochise Co: AZ 85613-

Landholding Agency: Army

Property Number: 21200540077

Status: Excess

Comment: 928 sq. ft., presence of asbestos/lead paint, most recent use—company hdqts., off-site use only

Bldg. 22540

Fort Huachuca

Cochise Co: AZ 85613-

Landholding Agency: Army

Property Number: 21200540078

Status: Excess

Comment: 958 sq. ft., most recent use—storage, off-site use only

Louisiana

Bldg. T401

Fort Polk

Ft. Polk Co: LA 71459-

Landholding Agency: Army

Property Number: 21200540084

Status: Unutilized

Comment: 2169 sq. ft., most recent use—admin., off-site use only

Bldgs. T406, T407, T411

Fort Polk

Ft. Polk Co: LA 71459-

Landholding Agency: Army

Property Number: 21200540085

Status: Unutilized

Comment: 6165 sq. ft., most recent use—admin., off-site use only

Bldg. T412

Fort Polk

Ft. Polk Co: LA 71459-

Landholding Agency: Army

Property Number: 21200540086

Status: Unutilized

Comment: 12,251 sq. ft., most recent use—admin., off-site use only

Bldgs. T414, T421

Fort Polk

Ft. Polk Co: LA 71459-

Landholding Agency: Army

Property Number: 21200540087

Status: Unutilized

Comment: 6165/1688 sq. ft., most recent use—admin., off-site use only

Texas

Bldg. 10014

Fort Hood

Bell Co: TX 76544-

Landholding Agency: Army

Property Number: 21200540096

Status: Excess

Comment: 2578 sq. ft., presence of asbestos, most recent use—bde hq bldg, off-site use only

Unsuitable Properties

Buildings (by State)

Alabama

Bldg. 21010

Fort Rucker

Dale Co: AL 36362-

Landholding Agency: Army

Property Number: 21200540100

Status: Unutilized

Reason: Extensive deterioration

Comfort Station

Clailborne Lake

Camden Co: AL 36726-

Landholding Agency: COE

Property Number: 31200540001

Status: Unutilized

Reason: Extensive deterioration

Pumphouse

Dannelly Reservoir

Camden Co: AL 36726-

Landholding Agency: COE

Property Number: 31200540002

Status: Unutilized

Reason: Extensive deterioration

California

Bldgs. 01423, 01428

Edwards AFB

Kern Co: CA

Landholding Agency: Air Force

Property Number: 18200540001

Status: Unutilized

Reasons: Within 2000 ft. of flammable or explosive material, Within airport runway clear zone, Secured Area

Structure 2600

Edwards AFB

Kern Co: CA

Landholding Agency: Air Force

Property Number: 18200540002

Status: Unutilized

Reason: Secured Area

Structure 08672

Edwards AFB

Kern Co: CA

Landholding Agency: Air Force

Property Number: 18200540003

Status: Unutilized

Reasons: Within 2000 ft. of flammable or explosive material, Within airport runway clear zone, Secured Area

Bldg. 16

Naval Submarine Base

San Diego Co: CA

Landholding Agency: Navy

Property Number: 77200540017

Status: Unutilized

Reasons: Within 2000 ft. of flammable or explosive material, Secured Area, Extensive deterioration

Florida

Bldgs. 1, 2

Naval Station

Mayport Co: Duval FL 32228-

Landholding Agency: Navy

Property Number: 77200540018

Status: Excess

Reasons: Floodway, Secured Area, Extensive deterioration

Bldg. 24

Naval Station

Mayport Co: Duval FL 32228-

Landholding Agency: Navy

Property Number: 77200540019

Status: Excess

Reasons: Floodway, Secured Area, Extensive deterioration

Bldg. 66

Naval Station

Mayport Co: Duval FL 32228-

Landholding Agency: Navy

Property Number: 77200540020

Status: Excess

Reasons: Floodway, Secured Area, Extensive deterioration

Bldg. 216

Naval Station

Mayport Co: Duval FL 32228-

Landholding Agency: Navy

Property Number: 77200540021

Status: Excess

Reasons: Floodway, Secured Area, Extensive deterioration

Bldgs. 437, 450

Naval Station

Mayport Co: Duval FL 32228-

Landholding Agency: Navy

Property Number: 77200540022

Status: Excess

Reasons: Floodway, Secured Area, Extensive deterioration

Bldgs. 1234, 1235

Naval Station

Mayport Co: Duval FL 32228-

Landholding Agency: Navy

Property Number: 77200540023

Status: Excess

Reasons: Floodway, Secured Area, Extensive deterioration

Georgia

Vault Toilet

Lake Sidney Lanier

Buford Co: GA 30518-

Landholding Agency: COE

Property Number: 31200540003

Status: Unutilized

Reason: Extensive deterioration

Indiana

Comfort Station

Salamonie Lake

Lagro Co: IN 46941-

Landholding Agency: COE

Property Number: 31200540004

Status: Unutilized

Reason: Extensive deterioration

Sewage Treatment Plant

Mississinewa Lake

Peru Co: IN 46970-

Landholding Agency: COE

Property Number: 31200540005

Status: Unutilized

Reason: Extensive deterioration

Kentucky

Loading Docks

Nolin Lake

Bee Spring Co: KY 42007-

Landholding Agency: COE

Property Number: 31200540006

Status: Unutilized

Reason: Extensive deterioration

Michigan

Defense Fuel Supply

6734 P Road

Wells Township Co: MI

Landholding Agency: GSA

Property Number: 54200540014

Status: Surplus

Reason: Contamination

GSA Number: 1-D-MI-763

South Carolina

Building

N. Charleston Training Annex

N. Charleston Co: SC 29404-

Landholding Agency: Air Force

Property Number: 18200540004

Status: Excess

Reason: Extensive deterioration

Bldgs. B323, B324

McEntire Air Natl Guard

Eastover Co: Richland SC 29044-

Landholding Agency: Air Force

Property Number: 18200540005

Status: Unutilized

Reason: Extensive deterioration

South Dakota

Bldg. 7219

Ellsworth AFB

Meade Co: SD 57706-

Landholding Agency: Air Force

Property Number: 18200540006

Status: Unutilized

Reason: Secured Area

Tennessee

Residence #5

5050 Dale Hollow Dam Rd.

Celina Co: Clay TN 38551-

Landholding Agency: COE

Property Number: 31200540010

Status: Unutilized

Reason: Landlocked

Texas

Bldg. B1274

Ellington Field

Houston Co: TX 77034-5586

Landholding Agency: Air Force

Property Number: 18200540007

Status: Unutilized

Reasons: Secured Area, Extensive deterioration

Wisconsin

Nike Battery

74 Launcher Site

County Trunk Hwy

Waukesha Co: WI

Landholding Agency: GSA

Property Number: 54200540016

Status: Excess

Reason: Extensive deterioration

GSA Number: 1-GR-WI-507

[FR Doc. E5-6332 Filed 11-17-05; 8:45 am]

BILLING CODE 4210-29-P